DEPARTMENT OF TRANSPORTATION

National Highway Traffic Safety Administration

[Docket Number NHTSA-2022-0046]

Agency Information Collection Activities; Notice and Request for Comment; Replaceable Light Source Dimensional Information Collection

AGENCY: National Highway Traffic Safety Administration (NHTSA), Department of Transportation (DOT).

ACTION: Notice and request for public comments on a request for reinstatement of a previously approved information collection.

SUMMARY: The National Highway Traffic Safety Administration (NHTSA) invites public comments about our intention to request approval from the Office of Management and Budget (OMB) for a reinstatement of a previously approved information collection. Before a Federal agency can collect certain information from the public, it must receive approval from OMB. Under procedures established by the Paperwork Reduction Act of 1995, before seeking OMB approval, Federal agencies must solicit public comment on proposed collections of information, including extensions and reinstatements of previously approved collections. This document describes a collection of information for which NHTSA intends to seek OMB approval on replaceable light source dimensional information.

DATES: Comments must be received on or before September 26, 2022.

ADDRESSES: You may submit comments identified by docket number NHTSA-20##-#### through any of the following methods:

• Electronic Submissions: Go to the Federal eRulemaking Portal at http://www.regulations.gov. Follow the online instructions for submitting comments.

• Fax: 1-202-493-2251.

• Mail: Docket Management, U.S. Department of Transportation, 1200 New Jersey Avenue SE, West Building, Room W12-140, Washington, DC 20590.

• Hand Delivery: 1200 New Jersey Avenue SE, West Building Ground Floor, Room W12-140, Washington, DC, between 9 a.m. and 5 p.m., Monday through Friday, except Federal Holidays. To be sure someone is there to help you, please call (202) 366-9322 before coming.

Instructions: All submissions must include the agency name and docket number. Note that all comments received will be posted without change to http://www.regulations.gov, including any personal information provided. Please see the Privacy Act discussion below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read comments received, go to http://www.regulations.gov at any time or to the street address listed above. Follow the online instructions for accessing the dockets via internet.

FOR FURTHER INFORMATION CONTACT: For additional information or access to background documents, contact Evan Frings, U.S. Department of Transportation, National Highway Traffic Safety Administration, West Building W43-462, 1200 New Jersey Avenue SE, Washington, DC 20590. (202) 366-7021. Please identify the relevant collection of information by referring to its OMB Control Number.

SUPPLEMENTARY INFORMATION: Under the Paperwork Reduction Act of 1995 (44 U.S.C. 3501 et seq.), before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following: (i) whether the proposed collection of information is necessary for the proper performance of the functions of the agency, including whether the information will have practical utility; (ii) the accuracy of the agency's estimate of the burden of the proposed collection of information, including the validity of the methodology and assumptions used; (iii) how to enhance the quality, utility, and clarity of the information to be collected; and (iv) how to minimize the burden of the collection of information on those who are to respond, including the use of appropriate automated, electronic, mechanical, or other technological collection techniques or other forms of information technology, e.g., permitting electronic submissions of responses. In compliance with these requirements, NHTSA asks for public comment on the following proposed collection of information for which the agency is seeking approval from OMB.

Title: 49 CFR Part 564, Replaceable Light Source Dimensional Information Collection.

OMB Control Number: 2127-0563.

Type of Request: Reinstatement of a previously approved collection.

Type of Review Requested: Regular.

Requested Expiration Date of Approval: 3 years from date of approval.

Summary of the Collection of Information: Pursuant to 49 CFR part 564, “Replaceable Light Source and Sealed Beam Headlamp Information,” manufacturers of newly designed or modified replaceable headlamp light sources are required to submit interchangeability and performance specifications to NHTSA not later than 60 days before beginning manufacture of a replaceable light source product. The specific dimensional, electrical specification, and marking/designation information that must be submitted is specified in Appendices A and B of part 564. After a short agency review to assure completeness, the information is placed in a public docket for use by any person who would like to manufacture headlamp light sources for motor vehicles. In Federal motor vehicle safety standard (FMVSS) No. 108, “Lamps, reflective devices and associated equipment,” information submitted in accordance with Part 564 is referenced as the source for the performance and interchangeability information for legal headlamp light sources, whether original equipment or replacement equipment. The submitted information about headlamp light sources becomes the basis for certification of compliance with safety standards.

Description of the Need for the Information and Proposed Use of the Information: The purpose of this information collection is to ensure the availability to replacement light source manufacturers of the manufacturing specifications of original equipment lights sources so that replacement light sources are interchangeable with original equipment light sources and provide equivalent performance, and to ensure that redesigned or newly developed light sources are designated as distinct, different, and noninterchangeable with previously existing lights sources.

The information collected is to be placed in a public docket for use by vehicle, headlamp and headlamp light source manufacturers for determining the interchangeability aspects of headlamp light sources for manufacturing purposes. For replacement light sources to be designated as acceptable replacements, the replacement light sources are required to comply with the dimensional and performance information in the docket for its type. A manufacturer may also request modification of a light source for which information has previously been placed in the public docket. The information helps to standardize headlamp bulbs for performance interchangeability.

Affected Public: This information collection affects manufacturers of a motor vehicles, original equipment headlamps, or original equipment headlamp replaceable light sources, which intend to manufacture a replaceable light source as original equipment or to incorporate a replaceable light source in its headlamps or motor vehicles.

Number of respondents: 1 annually.

Frequency: On Occasion.

Estimated Total Annual Burden Hours: 4 hours.

NHTSA estimates that compiling and submitting the required information will take, on average, 4 hours per submission. NHTSA estimates, based on past submissions, that the agency will receive approximately 1 submission per year. Therefore, NHTSA estimates the total burden associated with this information collection to be 4 hours per year.

NHTSA estimates the labor cost associated with this collection of information by (1) applying the appropriate average hourly labor rate published by the Bureau of Labor Statistics (BLS), (2) dividing by 0.702 ¹ (70.2%), for private industry workers to obtain the total cost of compensation, and (3) multiplying by the estimated burden hours for each respondent type. NHTSA estimates the hourly cost associated with compiling and submitting documentation under part 564 to be $60.26 ² per hour using the mean hourly wage estimate published by BLS for compliance officers in the motor vehicle manufacturing industry (Standard Occupational Classification # 13-1041). Therefore, NHTSA estimates that the total labor cost associated with 564 submissions is $241.04 per submission for a total of $241.04 per year for all submissions. Table 1 below provides a summary of the estimated burden hours and labor costs associated with those submissions.

¹ See Table 1. Employer Costs for Employee Compensation by ownership (Mar. 2020), available at https://www.bls.gov/news.release/archives/ecec_06182020.pdf (accessed March 11, 2022).

² The hourly wage is estimated to be $42.30 per hour. National Industry-Specific Occupational Employment and Wage Estimates NAICS 336100—Motor Vehicle Manufacturing, May 2020, https://www.bls.gov/oes/2020/may/naics4_336100.htm, (accessed August 20, 2021). The Bureau of Labor Statistics estimates that wages represent 70.4 percent of total compensation to private workers, on average. Therefore, NHTSA estimates the total hourly compensation cost to be $60.09.

Table 1—Burden Estimates
Annual number of respondents | Annual submissions | Estimated burden per submission (hours) | Average hourly labor cost | Labor cost per submission | Total burden hours | Total labor costs
1 | 1 | 4 | $60.26 | $241.04 | 4 | $241.04

Estimated Total Annual Burden Cost: $0.

NHTSA estimates that there are no costs to respondents other than labor costs associated with the burden hours.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995, 44 U.S.C. chapter 35; as amended, 49 CFR 1.95 and DOT Order 1351.29.

Ryan R. Posten,
Associate Administrator, Rulemaking.

[FR Doc. 2022-16023 Filed 7-25-22; 8:45 am]

BILLING CODE 4910-59-P